DEPARTMENT OF DEFENSE

Department of the Army; Corps of Engineers

Notice of Availability of the Draft Environmental Impact Statement (DEIS) and the Announcement of a Public Hearing for the Proposed Potash Corporation of Saskatchewan Phosphate Mine Continuation near Aurora, in Beaufort County, NC

Correction

In notice document 06-8812 beginning on page 61962 in the issue of Friday, October 20, 2006, make the following correction:

On page 61962, in the first column, in the ADDRESSES paragraph, in the third line from the bottom, “Phodes” should read “Rhodes”.

[FR Doc. C6-8812 Filed 10-26-06; 8:45 am]

BILLING CODE 1505-01-D

DEPARTMENT OF THE INTERIOR

Fish and Wildlife Service

50 CFR Part 17

RIN 1018-AT90

Endangered and Threatened Wildlife and Plants; Designation of Critical Habitat for the Perdido Key Beach Mouse, Choctawhatchee Beach Mouse, and St. Andrew Beach Mouse

Correction

In rule document 06-8481 beginning on page 60238 in the issue of Thursday, October 12, 2006 make the following correction:

On page 60238, in the first column, “RIN 1018-T90” is corrected to read as set forth above.

[FR Doc. C6-8481 Filed 10-26-06; 8:45 am]

BILLING CODE 1505-01-D

SMALL BUSINESS ADMINSTRATION

13 CFR Parts 121 and 123

RIN: 3245-AF41

Small Business Size Standards, Inflation Adjustment to Size Standards; Business Loan Program; Disaster Assistance Loan Program

Correction

In rule document 05-23435 beginning on page 72577 in the issue of Tuesday, December 6, 2005, make the following correction:

On page 72591, in the table, in the third column, under the heading “Size standards in millions of dollars”, in the sixth entry, “¹⁰$3.510” should read “¹⁰$3.5”.

[FR Doc. C5-23435 Filed 10-26-06; 8:45 am]

BILLING CODE 1505-01-D